DEPARTMENT OF DEFENSE

Office of the Secretary

[Docket No. DoD-2008-HA-0019]

Submission for OMB Review; Comment Request

ACTION: Notice.

The Department of Defense has submitted to OMB for clearance, the following proposal for collection of information under the provisions of the Paperwork Reduction Act (44 U.S.C. Chapter 35).

DATES: Consideration will be given to all comments received by February 16, 2010.

Title and OMB Number: TRICARE Dual Eligible Fiscal Intermediary (TDEFIC) Provider Satisfaction Survey, OMB Control Number 0720-TBD.

Type of Request: New.

Number of Respondents: 46,800.

Responses Per Respondent: 1.

Annual Responses: 46,800.

Average Burden Per Response: 15 minutes.

Annual Burden Hours: 11,700 hours.

Needs and Uses: The survey Wisconsin Physician Services (WPS) is to administer is a contract requirement that the Government has accepted and paid for as part of the contract award. This survey is conducted on a monthly basis, and the sample will be drawn from all providers that have had a claim processed in the previous week and therefore is not limited to just Network Providers. WPS will use the survey to assess provider satisfaction, attitudes, and perceptions regarding the claims processing and customer services provided by WPS for the TDEFIC in order to improve internal operations and customer services to increase provider satisfaction.

Affected Public: Individuals or households; Business or other for profit; Federal government.

Frequency: Monthly.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: January 6, 2010.
Patricia L. Toppings,
OSD Federal Register Liaison Officer, Department of Defense.

[FR Doc. 2010-597 Filed 1-14-10; 8:45 am]

BILLING CODE 5001-06-P